DEPARTMENT OF ENERGY

Federal Energy Regulatory Commission

Combined Notice of Filings #1

Take notice that the Commission received the following electric rate filings:

Docket Numbers: ER19-1507-000.

Applicants: Duke Energy Florida, LLC, Duke Energy Progress, LLC, Duke Energy Carolinas, LLC.

Description: Order Nos. 845 and 845-A Informational Report on Interconnection Study Delays Under OATT LGIP of Duke Energy Carolinas, LLC and Duke Energy Progress, LLC.

Filed Date: 2/13/24.

Accession Number: 20240213-5167.

Comment Date: 5 p.m. ET 3/5/24.

Docket Numbers: ER23-2040-003.

Applicants: New York Independent System Operator, Inc.

Description: Tariff Amendment: NYISO 2nd Deficiency Response re: DER and Aggregation Market Rule Changes to be effective 4/16/2024.

Filed Date: 2/13/24.

Accession Number: 20240213-5130.

Comment Date: 5 p.m. ET 3/5/24.

Docket Numbers: ER23-2333-002.

Applicants: PJM Interconnection, L.L.C.

Description: Tariff Amendment: Amendment to Filing, Original ISA, SA No. 6961 to be effective 6/6/2023.

Filed Date: 2/13/24.

Accession Number: 20240213-5132.

Comment Date: 5 p.m. ET 3/5/24.

Docket Numbers: ER24-731-001.

Applicants: Midcontinent Independent System Operator, Inc.

Description: Tariff Amendment: 2024-02-13_SA 4163 IMPA-IN Solar 1 Sub Original FSA (J1234) to be effective 2/20/2024.

Filed Date: 2/13/24.

Accession Number: 20240213-5076.

Comment Date: 5 p.m. ET 3/5/24.

Docket Numbers: ER24-732-001.

Applicants: Midcontinent Independent System Operator, Inc.

Description: Tariff Amendment: 2024-02-13_SA 4165 IMPA-IN Solar 1 Sub Original FSA (J1235) to be effective 2/20/2024.

Filed Date: 2/13/24.

Accession Number: 20240213-5079.

Comment Date: 5 p.m. ET 3/5/24.

Docket Numbers: ER24-1240-000.

Applicants: Public Service Company of New Mexico.

Description: Notice of cancellation of Transmission Service Agreements of Public Service Company of New Mexico.

Filed Date: 2/8/24.

Accession Number: 20240208-5176.

Comment Date: 5 p.m. ET 2/29/24.

Docket Numbers: ER24-1241-000.

Applicants: Southwest Power Pool, Inc.

Description: § 205(d) Rate Filing: 3599R3 Missouri Electric Commission to be effective 2/1/2024.

Filed Date: 2/13/24.

Accession Number: 20240213-5046.

Comment Date: 5 p.m. ET 3/5/24.

Docket Numbers: ER24-1242-000.

Applicants: PJM Interconnection, L.L.C.

Description: Request for prospective waiver, shortened five-day comment period, and expedited action of PJM Interconnection, L.L.C.

Filed Date: 2/12/24.

Accession Number: 20240212-5190.

Comment Date: 5 p.m. ET 2/20/24.

Docket Numbers: ER24-1243-000.

Applicants: Honeysuckle Solar, LLC.

Description: Baseline eTariff Filing: Petition for Blanket MBR Authorization with Waivers & Expedited Treatment to be effective 3/15/2024.

Filed Date: 2/13/24.

Accession Number: 20240213-5101.

Comment Date: 5 p.m. ET 3/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 13, 2024.
Debbie-Anne A. Reese,
Acting Secretary.

[FR Doc. 2024-03434 Filed 2-20-24; 8:45 am]

BILLING CODE 6717-01-P